DEPARTMENT OF THE INTERIOR

National Park Service

[NPS-SER-VIIS-35617; PS.SSELA386.00.1]

Land Exchange at Virgin Islands National Park; Correction

AGENCY: National Park Service, Interior.

ACTION: Notice of land exchange; correction.

SUMMARY: The National Park Service published a document in the Federal Register of April 25, 2023, concerning request for comments on a Notice of Land Exchange at the Virgin Islands National Park. The document contained a typographical error in the DATES section.

FOR FURTHER INFORMATION CONTACT: Russell Webb, Supervisory Realty Specialist, russell_webb@nps.gov, Land Resources Program Office—National Park Service, 2975 Horseshoe Dr. S, Suite 800, Naples, Florida 34104, telephone (239) 261-0865.

SUPPLEMENTARY INFORMATION:

Correction

In the Federal Register of April 25, 2023, in FR Doc. 2023-08623, on page 25014, in the third column, correct the DATES caption to read:

DATES: The effective date of this Notice of land exchange is April 25, 2023. Comments on the land exchange must be received by 11:59 p.m. ET on June 9, 2023.

Mark A. Foust,
Regional Director, Interior Region 2.

[FR Doc. 2023-09158 Filed 4-26-23; 4:15 pm]

BILLING CODE 4312-52-P